DEPARTMENT OF THE TREASURY

Financial Management Service

Senior Executive Service; Combined Performance Review Board (PRB)

AGENCY: Treasury Department, Financial Management Service (FMS).

ACTION: Notice of members of Combined Performance Review Board (PRB).

SUMMARY: This notice announces the appointment of the members of the Combined Performance Review Board (PRB) for the Bureau of the Public Debt (BPD), the Financial Management Service (FMS), the Bureau of Engraving and Printing (BEP), the United States Mint, the Alcohol and Tobacco Tax and Trade Bureau (TTB), and the Financial Crimes Enforcement Network (FinCEN). The Combined PRB reviews the performance appraisals of career senior executives who are below the level of bureau head and principal deputy in the bureaus, except for executives below the Assistant Commissioner/Executive Director level in the Bureau of the Public Debt and Financial Management Service. The Combined PRB makes recommendations regarding proposed performance appraisals, ratings, bonuses, pay adjustments, and other appropriate personnel actions.

DATES: The membership of the Combined PRB as described in the Notice is effective on November 6, 2012.

FOR FURTHER INFORMATION CONTACT: Wanda J. Rogers, Deputy Commissioner, Financial Management Service, 401 14th Street SW., Washington, DC; (202) 874-7000.

SUPPLEMENTARY INFORMATION: Pursuant to 5 U.S.C. 4314(c)(4), this Notice announces the appointment of the following primary and alternate members to the Combined PRB:

Primary Members

Wanda J. Rogers, Deputy Commissioner, FMS;

Peter S. Alvarado, Deputy Director, FinCEN;

Anita Shandor, Deputy Commissioner, BPD;

Pamela J. Gardiner-Little, Deputy Director, BEP;

Richard Peterson, Deputy Director, United States Mint;

Mary G. Ryan, Deputy Administrator, TTB.

Alternate Members

Marty Greiner, Chief Financial Officer/Assistant Commissioner, FMS;

Amy Taylor, Associate Director, FinCEN;

Lori Santamorena, Executive Director, BPD;

Leonard R. Olijar, Chief Financial Officer/Associate Director, BEP;

Beverly Ortega Babers, Chief Administrative Officer, United States Mint;

Cheri Mitchell, Chief Financial Officer/Assistant Administrator, TTB.

Dated: October 31, 2012.
Wanda J. Rogers,
Deputy Commissioner.

[FR Doc. 2012-26974 Filed 11-5-12; 8:45 am]

BILLING CODE 4810-35-P